DEPARTMENT OF THE INTERIOR

Bureau of Land Management

[MT-922-05-1310-FI-P; NDM 85983, NDM 85987, NDM 85992, NDM 85998, and NDM 92293]

Notice of Proposed Reinstatement of Terminated Oil and Gas Leases

AGENCY: Bureau of Land Management, Interior.

ACTION: Notice.

SUMMARY: Per 30 U.S.C. 188(d), the lessees, Headington Oil, Limited Partnership, Upton Resources U.S.A., Inc., Northern Energy Corporation, and W.H. Champion, timely filed petitions for reinstatement of oil and gas leases NDM 85983, NDM 85987, NDM 85992, NDM 85998, and NDM 92293, Billings County, North Dakota. The lessees paid the required rentals accruing from the date of termination, February 1, 2005.

No leases were issued that affect these lands. The lessees agree to new lease terms for rentals and royalties of $10 per acre and 16⅔ percent or 4 percentages above the existing competitive royalty rate for each lease. The lessees paid the $500 administration fee for the reinstatement of each lease and $155 cost for publishing this Notice.

The lessees met the requirements for reinstatement of the leases per Sec. 31(d) and (e) of the Mineral Leasing Act of 1920 (30 U.S.C. 188). We are proposing to reinstate the leases, effective the date of termination, February 1, 2005, subject to:

• The original terms and conditions of each lease;

• The increased rental of $10 per acre for each lease;

• The increased royalty of 16⅔ percent or 4 percentages above the existing competitive royalty rate for each lease; and

• The $155 cost of publishing this Notice.

FOR FURTHER INFORMATION CONTACT: Karen L. Johnson, Chief, Fluids Adjudication Section, BLM Montana State Office, PO Box 36800, Billings, Montana 59107, 406-896-5098.

Karen L. Johnson,
Chief, Fluids Adjudication Section.

[FR Doc. 05-18456 Filed 9-15-05; 8:45 am]

BILLING CODE 4310-$$-P